DEPARTMENT OF LABOR

Occupational Safety and Health Administration

National Advisory Committee on Occupational Safety and Health; Notice of Meeting

Notice is hereby given of the date and location of the next meeting of the National Advisory Committee on Occupational Safety and Health (NACOSH), established under Section 7(a) of the Occupational Safety and Health Act of 1970 (29 U.S.C. 656) to advise the Secretary of Labor and the Secretary of Health and Human Services on matters relating to the administration of the Act. NACOSH will hold a meeting on August 19, in Room N3437 (A-C), U.S. Department of Labor, located at 200 Constitution Avenue NW., Washington, DC. The Meeting is open to the public and will begin at 9 a.m. on August 18 and end at approximately 4:15 p.m.

Agenda items will include updates on activities of both the Occupational Safety and Health Administration (OSHA) and the National Institute for Occupational Safety and Health (NIOSH). Presentations will also be made on the following subjects: Enforcement Indicators, VPP and Partnerships, Regulatory Issues, Hispanic Summit, and NIOSH's Steps to a Healthier U.S. Workforce Initiative.

Written data, vies, or comments for consideration by the committee may be submitted, preferably with 20 copies, to Wilfred Epps at the address provided below. Any such submissions received prior to the meeting will be provided to the members of the committee and will be included in the record of the meeting. because of the need to cover a wide variety of subjects in a short period of time, there is usually insufficient time on the agenda for members of the public to address the committee orally. However, any such requests will be considered by the Chair who will determine whether or not time permits. Any request to make an oral presentation should state the amount of time desired, the capacity in which the person would appear, and a brief outline of the content of the presentation. Individuals with disabilities who need special accommodations should contact Veneta Chatmon (phone: 202-693-1912; fax: 202-693-1634) one week before the meeting.

An official record of the meeting will be available for public inspection in the OSHA Technical Data Center (TDC) located in Room N2625 at the Department of Labor Building (202-693-2350). For additional information contact: Wilfred Epps, Occupational Safety and Health Administration (OSHA); Room N3641, 200 Constitution Avenue NW., Washington, DC 20210 (phone: 202-693-1857; fax: 202-693-1641; email: Epps.Wil@dol.gov); or check the National Advisory Committee on Occupational Safety and Health Information pages located at http://www.osha.gov/dop/nacosh/nacosh.html.

Signed at Washington, DC this 20th day of July 2004.
John L. Henshaw,
Assistant Secretary of Labor for Occupational Safety and Health.

[FR Doc. 04-17044 Filed 7-26-04; 8:45 am]

BILLING CODE 4510-26-M